DEPARTMENT OF DEFENSE

Office of the Secretary

Renewal of 16 Department of Defense Federal Advisory Committees

AGENCY: DoD.

ACTION: Notice.

SUMMARY: Under the provisions of the Federal Advisory Committee Act of 1972, as amended (5 U.S.C. Appendix), the Department of Defense gives notice that the following Federal Advisory Committees, which are determined to be in the public interest, are hereby renewed on the dates indicated:

February 28, 2006—

Board of Visitors National Defense University

Defense Science Board

March 2, 2006—

Armed Forces Epidemiological Board

Department of Defense Wage Committee

Naval Research Advisory Committee

U.S. Strategic Command Strategic Advisory Group

March 3, 2006—

Army Educational Advisory Committee

Board of Advisors to the President, Naval Postgraduate School

Board of Advisors to the President, Naval War College

Scientific Advisory Board of the Armed Forces Institute of Pathology

U.S. Air Force Scientific Advisory Board

March 6, 2006—

Air University Board of Visitors

Chief of Engineers Environmental Advisory Board

Chief of Naval Operations Executive Panel

Defense Advisory Committee on Military Personnel Testing

U.S. Army Science Board

These committees provide necessary and valuable independent advice to the Secretary of Defense and other senior Defense officials in their respective areas of expertise. They make important contributions to DoD efforts in research and development, education, and training, and various technical program areas. Some of them are authorized by statue.

It is a continuing DoD policy to make every effort to achieve a balanced membership on all DoD advisory committees. Each committee is evaluated in terms of the functional disciplines, levels of experience, professional diversity, public and private association, and similar characteristics required to ensure a high degree of balance is obtained.

FOR FURTHER INFORMATION CONTACT: Frank Wilson, DoD Committee Management Officer, 703-601-2554.

Dated: March 7, 2006.
L.M. Bynum,
Alternate OSD Federal Register Liaison Officer, Department of Defense.

[FR Doc. 06-2373 Filed 3-10-06; 8:45 am]

BILLING CODE 5001-06-M